DEPARTMENT OF TRANSPORTATION

Office of the Secretary

[Docket No. DOT-OST-2016-0171]

Agency Information Collection Activities: Request for Comments; Renewal of an Information Collection(s): U.S. Department of Transportation, Individual Complaint of Employment Discrimination Form

AGENCY: Office of the Secretary, U.S. Department of Transportation.

ACTION: Notice and request for comments.

SUMMARY: In accordance with the Paperwork Reduction Act of 1995, (44 U.S.C. 3501 et seq.), this notice announces the U.S. Department of Transportation's (DOT) intention to request the Office of Management and Budget's (OMB) approval for the utilization of the Individual Complaint of Employment Discrimination form when processing Equal Employment Opportunity (EEO) discrimination complaints filed by applicants for employment with DOT. The OMB approved the form in 2009 with its renewal required by September 30, 2012. Subsequently, DOT was given approval of the form until August 31, 2014. The renewal period then lapsed; therefore, the form expired. The OMB approved the form in 2015 with its renewal required by December 31, 2016.

DATES: Comments on this notice must be received by November 15, 2016.

ADDRESSES: You may submit comments [identified by Docket No. DOT-OST-2016-0171] by any of the following methods:

• Fax: 202-493-2064.

• Mail: Docket Management Facility, U.S. Department of Transportation, 1200 New Jersey Avenue SE., West Building, Room W12-140, Washington, DC 20590.

• Hand Delivery: Docket Management Facility, U.S. Department of Transportation, 1200 New Jersey Avenue SE., West Building, Room W12-140, Washington, DC 20590, between 9 a.m. and 5 p.m., Monday through Friday, except on Federal holidays.

• Federal eRulemaking Portal: http://www.regulations.gov. Follow the online instructions for submitting comments.

Instructions: All submissions must include the Agency name (Office of the Secretary, DOT) and docket number for this rulemaking. You should provide two copies of your comments if you submit them by mail or hand delivery. Note that all comments received will be posted without change to www.regulations.gov, including any personal information provided, and will be available to Internet users. You may review DOT's complete Privacy Act Statement in the Federal Register published on April 11, 2000 (65 FR 19477) or you may visit htttp://DocketsInfo.dot.gov.

Docket: For Internet access to the docket to read background documents and comments received, go to www.regulations.gov. Background documents and comments received may also be viewed at DOT, 1200 New Jersey Avenue SE., Docket Operations, West Building, Room W12-140, Washington, DC 25090, between 9 a.m. and 5 p.m., Monday through Friday, except Federal holidays.

FOR FURTHER INFORMATION CONTACT: Tami L. Wright, Associate Director, Compliance Operations Division (S-34), Departmental Office of Civil Rights, Office of the Secretary, U.S. Department of Transportation, 1200 New Jersey Avenue SE., Washington, DC 20590, 202-366-9370 or (TTY) 202-366-0663.

SUPPLEMENTARY INFORMATION:

OMB Control Number: 2015-0056.

Title: Individual Compliant of Employment Discrimination Form.

Form Numbers: DOT F 1050-8.

Type of Review: Renewal of previously approved form.

Abstract: The DOT will utilize the form to collect information necessary to process EEO discrimination complaints filed by employees, former employees, and applicants for employment with the Department. These complaints are processed in accordance with the U.S. Equal Employment Opportunity Commission's regulations, Title 29, Code of Federal Regulations, Part 1614, as amended. The DOT will use the form to: (a) Request requisite information from the applicant for processing his/her EEO discrimination complaint; and (b) obtain information to identify an individual or his or her attorney or other representative, if appropriate. An applicant's filing of an EEO discrimination complaint is solely voluntary. The DOT estimates that it takes an applicant approximately one hour to complete the form.

Respondents: Job applicants filing EEO discrimination complaints.

Estimated Number of Respondents: 10 per year.

Estimated Total Burden on Respondents: 10 hours per year.

Comments are invited on: (a) Whether the proposed collection of information is reasonable for the proper performance of the EEO functions of the Department, and (b) the accuracy of the Department's estimate of the burden of the proposed information collection. All responses to the notice will be summarized and included in the request for OMB approval. All comments will also become a matter of public record.

Issued in Washington, DC, on September 8, 2016.
Leslie Proll,
Director, Departmental Office of Civil Rights.

[FR Doc. 2016-22190 Filed 9-15-16; 8:45 am]

BILLING CODE 4910-9X-P